DEPARTMENT OF TRANSPORTATION

Federal Aviation Administration

14 CFR Part 39

[Docket No. FAA-2007-27628; Directorate Identifier 2007-CE-025-AD]

RIN 2120-AA64

Airworthiness Directives; Cessna Aircraft Company (Type Certificate Previously Held by Columbia Aircraft Manufacturing) Models LC40-550FG, LC41-550FG, and LC42-550FG Airplanes

AGENCY: Federal Aviation Administration (FAA), DOT.

ACTION: Notice of proposed rulemaking; correction.

SUMMARY: This document makes a correction to a proposed airworthiness directive (AD), which was published in the Federal Register on August 7, 2008 (73 FR 45902), and applies to certain Cessna Aircraft Company (type certificate previously held by Columbia Aircraft Manufacturing) (Cessna) Models LC40-550FG, LC41-550FG, and LC42-550FG airplanes. This document proposed to revise AD 2007-07-06 with a new AD that would retain the actions currently required in AD 2007-07-06; allow installing access panels; and change the serial number applicability. The FAA incorrectly referenced the docket number of this proposed AD as “FAA-2007-27268” instead of “FAA-2007-27628.” This document corrects the docket number.

DATES: The comment period ending date of October 6, 2008, remains the same. The FAA will also address any comments relating to this proposed AD submitted to Docket No. FAA-2007-27268.

FOR FURTHER INFORMATION CONTACT: Jeff Morfitt, Aerospace Engineer, FAA, Seattle Aircraft Certification Office, 1601 Lind Avenue, SW., Renton, WA 98057; telephone: (425) 917-6405; fax: (425) 917-6590.

SUPPLEMENTARY INFORMATION:

Discussion

On August 1, 2008, the FAA issued a notice of proposed rulemaking (NPRM) to revise AD 2007-07-06 with a new AD that would retain the actions currently required in AD 2007-07-06; allow installing access panels; and change the serial number applicability. This NPRM was published in the Federal Register on August 7, 2008 (73 FR 45902). The FAA incorrectly referenced the docket number of this proposed AD as “FAA-2007-27268” instead of “FAA-2007-27628.” This document corrects the docket number.

Need for the Correction

This correction is needed to assure that all correspondence related to this subject is posted in the correct docket.

Correction of Publication

Accordingly, the publication of August 7, 2008 (73 FR 45902), which was the subject of FR Doc. E8-18231, is corrected as follows:

On page 45902, in the third column, in the third line under the heading DEPARTMENT OF TRANSPORTATION, replace “FAA-2007-27268” with “FAA-2007-27628.”

On page 45903, in the second column, in the seventh line under the heading SUPPLEMENTARY INFORMATION, replace “FAA-2007-27268” with “FAA-2007-27628.”

§ 39.13 [Corrected]

On page 45904, in the third column, in the eighth and ninth lines under the heading § 39.13 [Amended], replace “FAA-2007-27268” with “FAA-2007-27628.”

Action is taken herein to correct this reference in the proposed AD.

The comment period ending date of October 6, 2008, remains the same. The FAA will also address any comments relating to this proposed AD submitted to Docket No. FAA-2007-27268.

Issued in Kansas City, Missouri, on August 25, 2008.
Brian A. Yanez,
Acting Manager, Small Airplane Directorate, Aircraft Certification Service.

[FR Doc. E8-20200 Filed 8-29-08; 8:45 am]

BILLING CODE 4910-13-P